DEPARTMENT OF VETERANS AFFAIRS

38 CFR Part 20

RIN 2900-AM62

Accreditation of Agents and Attorneys; Agents and Attorney Fees; Correction

AGENCY: Department of Veterans Affairs.

ACTION: Correcting amendments.

SUMMARY: This document corrects a Department of Veterans Affairs (VA) final rule that governs the representation of claimants for VA benefits. This correction removes obsolete regulations without making any substantive change to the content of the final rule.

DATES: Effective Date: This correction is effective March 16, 2009.

FOR FURTHER INFORMATION CONTACT: Christa A. Childers, Staff Attorney (022N), Office of the General Counsel, Department of Veterans Affairs, 810 Vermont Avenue, NW., Washington, DC 20420, (202) 461-7699.

SUPPLEMENTARY INFORMATION: VA published a final rule in the Federal Register on May 22, 2008 (73 FR 29852) that, among other things, transferred jurisdiction over agents' and attorneys' fees from the Board of Veterans' Appeals (Board) to the Office of the General Counsel consistent with amendments to 38 U.S.C. chapter 59. In that document, VA also prescribed that, with the exceptions of 38 CFR 20.600 regarding right to representation before the Board and 38 CFR 20.608 regarding withdrawal from representation before the Board, representation before VA is governed exclusively by 38 CFR 14.626 through 14.637. Except as noted above regarding §§ 20.600 and 20.608, the final rule superseded all of the Board's Rules of Practice in 38 CFR part 20, subpart G. However, in the final rule, VA inadvertently failed to remove obsolete §§ 20.601 through 20.607. This document corrects that error by removing and reserving §§ 20.601 through 20.607 and adding a note to advise that former §§ 20.601 through 20.607 have been superseded by the representation provisions in 38 CFR part 14.

List of Subjects in 38 CFR Part 20

Administrative practices and procedure, Claims, Veterans.

Approved: March 10, 2009.
William F. Russo,
Director of Regulations Management.

For the reasons set out in the preamble, VA corrects 38 CFR part 20, subpart G, as follows.

PART 20—BOARD OF VETERANS' APPEALS: RULES OF PRACTICE

1. The authority citation for part 20 continues to read as follows:

Authority: 38 U.S.C. 501(a) and as noted in specific sections.

Subpart G—Representation

2. Remove the cross-reference immediately following the subpart heading.

§§ 20.601 through 20.607 [Removed and Reserved]

3. Remove and reserve §§ 20.601 through 20.607.

4. Immediately following §§ 20.612-20.699 [Reserved], add a Note at the end of subpart G to read as follows:

Note to subpart G: The representation provisions in §§ 14.626 through 14.637 of this title replace former §§ 20.601 through 20.607 concerning representation before the Board of Veterans' Appeals.

[FR Doc. E9-5547 Filed 3-13-09; 8:45 am]

BILLING CODE 8320-01-P